DEPARTMENT OF THE INTERIOR

Bureau of Land Management

[LLUT920-09-L13300000-EN000, UTU-XXXX]

Notice of Expansion of the Lisbon Valley Known Potash Leasing Area, Utah

AGENCY: Bureau of Land Management, Interior.

ACTION: Notice.

SUMMARY: Potash is a trade name for potassium bearing minerals used mainly for fertilizer. Potash and certain other non-energy solid minerals found on Federal lands may be leased for development in either of two ways: (1) If it is unknown whether an area contains valuable potash deposits, an interested party may obtain a prospecting permit, which grants it the exclusive right to explore for potash, and, if a valuable deposit is found, that party may qualify for a noncompetitive lease; or (2) If the BLM has access to information which shows that valuable deposits of potash exist in an area, the area may be classified and designated a Known Potash Leasing Area (KPLA), where prospecting permits may not be issued, and any leasing must be done on a competitive basis.

In 1960, the United States Geological Survey (USGS) established the Lisbon Valley KPLA, based on mineral land classification standards established in 1957. In 1983, under Secretarial Order 3087, the authority to designate KPLAs was transferred to the BLM. Recent advances in drilling technology have provided the capability to extract deep potash deposits using dissolution. Based on this new technology, the BLM approved new mineral land classification standards for the Utah portion of the Paradox Basin geologic province, which includes Lisbon Valley in 2009. The BLM Utah State Office used the new standards and the analysis of available drilling information to determine that the Lisbon Valley KPLA should be expanded to include deep solution-mineable potash deposits. Additional information regarding this KPLA expansion, including maps and the Potash Master Title Plats, are available in the Public Room of the BLM Utah State Office and at the following Web site: http://www.blm.gov/ut/st/en/prog/more/Land_Records.html. The lands included in the Lisbon Valley KPLA expansion, located in San Juan County, Utah, are described as follows:

Salt Lake Base Meridian, Utah

T. 29 S., R. 24 E.,

Sec. 29, SW¼SW¼;

Sec. 30, E½SE¼;

Sec. 31, E½E½, SE¼SW¼, W½SE¼;

Sec. 32, W½W½, E½SW¼, S½SE¼; and

Sec. 33, E½, SE¼NW¼, E½SW¼, SW¼SW¼.

Containing 1,200.00 acres.

T. 29½ S., R. 24 E.,

Sec. 27, lots 2-4;

Sec. 28, lots 1-4;

Sec. 29, lots 1-4;

Sec. 32, N½, E½SW¼, SE¼;

Sec. 33, all; and

Sec. 34, W½NE¼, W½, SE¼.

Containing 1,980.68 acres.

T. 30 S., R. 24 E.,

Sec. 2, W½SW¼;

Sec. 3, all;

Sec. 4, all;

Sec. 5, lots 1, 2, S½NE¼, SE¼;

Sec. 8, E½, SE¼SW¼;

Sec. 9, all;

Sec. 10, all;

Sec. 11, SW¼NE¼, W½, W½SE¼;

Sec. 13, W½SW¼;

Sec. 14, all;

Sec. 15, all;

Sec. 16, N½, N½S½, S½SE¼;

Sec. 17, NE¼, E½NW¼, N½S½;

Sec. 21, E½E½;

Sec. 22, all;

Sec. 23, all;

Sec. 24, W½;

Sec. 25, W½NE¼, SE¼NE¼, W½, SE¼;

Sec. 26, all;

Sec. 27, N½, N½S½, SE¼SW¼, S½SE¼;

Sec. 28, N½, N½S½;

Sec. 35, N½N½, S½NE¼; and

Sec. 36, N½, N½S½, SE¼SW¼, S½SE¼.

Containing 10,997.82 acres.

T. 31 S., R. 24 E.,

Sec. 1, lots 1-3, S½NE¼, NE¼SE¼.

Containing 253.75 acres.

T. 30 S., R. 25 E.,

Sec. 30, lots 2-4, SE¼SW¼, SW¼SE¼;

Sec. 31, all;

Sec. 32, W½NE¼, SE¼NE¼, NW¼, S½;

Sec. 33, SW¼NE¼, S½NW¼, S½;

Sec. 34, S½NE¼, SE¼NW¼, S½; and

Sec. 35, SW¼, SW¼SE¼ .

Containing 2,517.75 acres.

T. 31 S., R 25 E.,

Sec. 2, lots 3, 4, SW¼NW¼;

Sec. 3, lots 1-4, S½N½, N½SW¼, SW¼SW¼, NE¼;SE¼;

Sec. 4, all;

Sec. 5, all; and

Sec. 6, lots 1-6, S½NE¼, SE¼NW¼, NE¼SW¼, SE¼.

Containing 2,495.23 acres.

Containing an aggregate acreage of: 19,445.23.

DATES: This mineral land classification will become effective upon date of publication of this notice in the Federal Register.

ADDRESSES: Inquiries should be sent to the State Director (UT-923), Bureau of Land Management, Utah State Office, 440 West 200 South, Suite 500, Salt Lake City, Utah 84101.

SUPPLEMENTARY INFORMATION: Competitive leasing within the KPLA will be initiated based on expressions of interest. Any competitive leases issued will be subject to the oil and gas leasing stipulations contained in the 2008 Moab and Monticello Resource Management Plans (Moab RMP, Appendix A and Monticello RMP, Appendix B). Competitive potash leases will also be subject to additional conditions of approval developed as part of site-specific National Environmental Policy Act of 1969 (NEPA) compliance.

In accordance with Departmental Manual (DM) 516, Chapter 11.9 J(12), the classification of a KPLA is an action that is categorically excluded from NEPA analysis, provided that there are no “extraordinary circumstances” as described in 43 CFR 46.215. The proposed Lisbon Valley KPLA expansion was reviewed and was determined to have no “extraordinary circumstances” as documented in DOI-BLM-UT-9230-2010-0003-CX. Further NEPA review will be done for site specific proposals within the KPLA.

This notice will be published in the Moab Times Independent for 2 consecutive weeks after publication in the Federal Register.

Pursuant to the authority in the Act of March 3, 1879, (43 U.S.C. 31), as supplemented by Reorganization Plan No. 3 of 1950 (43 U.S.C. 1451, note) and 235 Departmental Manual 1.1L, and the Mineral Leasing Act of 1920, as amended (30 U.S.C. 181 et seq.), the Lisbon Valley KPLA of May 18, 1960, is expanded to include the lands listed above effective on November 16, 2010.

Kent Hoffman,
Acting State Director.

[FR Doc. 2010-28724 Filed 11-15-10; 8:45 am]

BILLING CODE 4310-DQ-P